NATIONAL COUNCIL ON DISABILITY

Sunshine Act Meetings

TIME AND DATES: The Members of the National Council on Disability (NCD) will hold a quarterly meeting on Thursday, October 26, from 9:00 a.m.—4:30 p.m., Eastern Time, in Louisville, KY.

PLACE: This meeting will occur in Louisville, KY at the Aloft Louisville Downtown hotel, in the rooms called “Tactic 1 & 4” on the first floor, 102 W Main Street, Louisville, KY 40202. Interested parties may join the meeting in person at the meeting location or may join by phone in a listening-only capacity (other than the period allotted for public comment noted below) using the following call-in information: Teleconference number: 1-888-203-7337; Conference ID: 9520004; Conference Title: NCD Meeting; Host Name: Clyde Terry.

MATTERS TO BE CONSIDERED: The Council will receive agency updates on policy projects, finance, governance, and other business. The Council will release its annual 2017 Progress Report and receive a respondent panel presentation on the report. It will also screen a documentary film entitled “Rooted in Rights.” The Council will vote on final drafts of policy reports on guardianship and on pre-employment transition services under the Workforce Innovation and Opportunity Act. The Council will discuss project proposals for NCD's policy work in 2018 and 2019 before ending the meeting in a period of public comment.

AGENDA: The times provided below are approximations for when each agenda item is anticipated to be discussed (all times Eastern):

Thursday, October 26

9:00-9:15 a.m.—Welcome and introductions

9:15-11:15 a.m.—Release of NCD 2017 Progress Report, including screening of “Rooted in Rights” documentary and report respondent panel

11:15-11:30 a.m.—Break

11:30 a.m.-12:30 p.m.—NCD business meeting with votes scheduled following discussions of NCD's completed reports on guardianship and on pre-employment transition services under the Workforce Innovation and Opportunity Act

12:30-1:30 p.m.—Lunch break

1:30-2:15 p.m.—Continuation of NCD business meeting, including finance and governance reports

2:15-2:30 p.m.—Break

2:30-4:00 p.m.—Council discussion of 2018 and 2019 policy project priorities

4:00-4:30 p.m.—Public comment

4:30 p.m.—Adjournment

PUBLIC COMMENT: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, October 25, 2017. Priority will be given to those individuals who are in-person to provide their comments during the public comment period. Those commenters on the phone will be called on per the list of those registered via email. Due to time constraints, NCD asks all commenters to limit their comments to three minutes.

CONTACT PERSON FOR MORE INFORMATION: Anne Sommers, NCD, 1331 F Street NW., Suite 850, Washington, DC 20004; 202-272-2004 (V), 202-272-2074 (TTY).

ACCOMMODATIONS: A CART streamtext link has been arranged for this meeting. The web link to access CART on Thursday, October 26, 2017 is: http://www.streamtext.net/player?event=NCD-QUARTERLY.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: October 6, 2017.
Sharon M. Lisa Grubb,
Director of Operations and Administration.

[FR Doc. 2017-22057 Filed 10-6-17; 4:15 pm]

BILLING CODE 8421-03-P